DEPARTMENT OF ENERGY

Federal Energy Regulatory Commission

Combined Notice of Filings # 1

January 30, 2008.

Take notice that the Commission received the following electric rate filings:

Docket Numbers: ER99-2984-009.

Applicants: Green Country Energy, LLC.

Description: Green Country Energy, LLC submits notification of a non-material change in status with respect to their eligibility for market-based rate wholesale power sales authority.

Filed Date: 01/24/2008.

Accession Number: 20080129-0054.

Comment Date: 5 p.m. Eastern Time on Friday, February 8, 2008.

Docket Numbers: ER00-2173-006.

Applicants: Northern Indiana Public Service Company.

Description: Northern Indiana Public Service Company submits a revised market-based rates tariff.

Filed Date: 01/25/2008.

Accession Number: 20080129-0055.

Comment Date: 5 p.m. Eastern Time on Friday, February 15, 2008.

Docket Numbers: ER00-2268-024; ER99-4124-021; ER99-4122-025; ER07-428-003.

Applicants: Pinnacle West Capital Corporation; Arizona Public Service Company; APS Energy Services Co Inc; Pinnacle West Marketing & Trading Co, LLC.

Description: Arizona Public Service Company et al. submit their recent notice of change in status.

Filed Date: 01/25/2008.

Accession Number: 20080129-0090.

Comment Date: 5 p.m. Eastern Time on Friday, February 15, 2008.

Docket Numbers: ER04-157-025; ER04-714-015; EL05-89-005.

Applicants: Bangor Hydro-Electric Company; Florida Power & Light Co New England;

Description: Revised Regional Refund Report of New England Transmission Owners.

Filed Date: 01/29/2008.

Accession Number: 20080129-5055.

Comment Date: 5 p.m. Eastern Time on Tuesday, February 19, 2008.

Docket Numbers: ER05-287-003.

Applicants: Granite Ridge Energy, LLC.

Description: Granite Ridge Energy LLC submits Notice of Non-material Change in Status and revised tariff sheets in compliance with Order 697.

Filed Date: 01/25/2008.

Accession Number: 20080129-0088.

Comment Date: 5 p.m. Eastern Time on Friday, February 15, 2008.

Docket Numbers: ER07-546-011.

Applicants: ISO New England Inc.

Description: Request for Expedited Consideration and Limited Waiver Relating to Demonstration of Site Control Under Market Rule 1.

Filed Date: 01/23/2008.

Accession Number: 20080123-5055.

Comment Date: 5 p.m. Eastern Time on Friday, February 8, 2008.

Docket Numbers: ER07-1036-002.

Applicants: PJM Interconnection L.L.C.

Description: PJM Interconnection LLC submits this filing in compliance with FERC's Order on 10/26/07.

Filed Date: 01/28/2008.

Accession Number: 20080130-0079.

Comment Date: 5 p.m. Eastern Time on Tuesday, February 19, 2008.

Docket Numbers: ER08-75-002.

Applicants: DEL LIGHT INC.

Description: DEL LIGHT INC submits a Petition of Acceptance of FERC Electric Tariff, Original Volume 1 to engage in wholesale electric power and energy transactions etc.

Filed Date: 01/28/2008.

Accession Number: 20080130-0080.

Comment Date: 5 p.m. Eastern Time on Tuesday, February 19, 2008.

Docket Numbers: ER08-192-001.

Applicants: Westar Energy, Inc.

Description: Westar Energy Inc submits 1st Rev First Revised Sheet 174 and 178 to FERC Electric Tariff, Second Revised Volume 5, to become effective 6/1/07.

Filed Date: 01/28/2008.

Accession Number: 20080130-0078.

Comment Date: 5 p.m. Eastern Time on Tuesday, February 19, 2008.

Docket Numbers: ER08-475-000.

Applicants: Florida Power & Light Company.

Description: Florida Power & Light Company submits an executed addendum to Exhibit A. to the Service Agreement for Network Integration Service with Seminole Electric Cooperative Inc.

Filed Date: 01/25/2008.

Accession Number: 20080129-0086.

Comment Date: 5 p.m. Eastern Time on Friday, February 15, 2008.

Docket Numbers: ER08-476-000.

Applicants: American Electric Power Service Corporation.

Description: American Electric Power Corp submits an executed generation interconnection agreement between AEP Texas North Co and McAdoo Wind Energy LLC.

Filed Date: 01/25/2008.

Accession Number: 20080129-0087.

Comment Date: 5 p.m. Eastern Time on Friday, February 15, 2008.

Docket Numbers: ER08-477-000.

Applicants: Southwest Power Pool, Inc.

Description: Southwest Power Pool, Inc submits revisions to its Open Access Transmission Tariff of its executed external market monitor services agreement.

Filed Date: 01/25/2008.

Accession Number: 20080129-0089.

Comment Date: 5 p.m. Eastern Time on Friday, February 15, 2008.

Docket Numbers: ER08-478-000.

Applicants: Kentucky Utilities Company.

Description: Kentucky Utilities submits an amendment to a contract with the City of Corbin, KY designated as First Revised Rate Schedule FERC 309.

Filed Date: 01/28/2008.

Accession Number: 20080129-0092.

Comment Date: 5 p.m. Eastern Time on Tuesday, February 19, 2008.

Docket Numbers: ER08-479-000.

Applicants: Kentucky Utilities Company.

Description: Kentucky Utilities Company submits amendment to a contract between the City of Falmouth, Kentucky and KU under FERC Rate Schedule 310.

Filed Date: 01/28/2008.

Accession Number: 20080129-0091.

Comment Date: 5 p.m. Eastern Time on Tuesday, February 19, 2008.

Docket Numbers: ER08-480-000.

Applicants: Kentucky Utilities Company.

Description: Kentucky Utilities Co submits an amendment to a contract with the City Utility Commission of the City of Owensboro, Kentucky re First Revised Rate Schedule 300.

Filed Date: 01/28/2008.

Accession Number: 20080130-0087.

Comment Date: 5 p.m. Eastern Time on Tuesday, February 19, 2008.

Docket Numbers: ER08-481-000.

Applicants: Kentucky Utilities Company.

Description: Kentucky Utilities Co submits an amendment to a contract with the City of Paris, Kentucky re First Revised Rate Schedule 301.

Filed Date: 01/28/2008.

Accession Number: 20080130-0088.

Comment Date: 5 p.m. Eastern Time on Tuesday, February 19, 2008.

Docket Numbers: ER08-482-000.

Applicants: Kentucky Utilities Company.

Description: Kentucky Utilities Co submits an amendment to a contract with the City of Bardstown, Kentucky re First Revised Rate Schedule 302.

Filed Date: 01/28/2008.

Accession Number: 20080130-0089.

Comment Date: 5 p.m. Eastern Time on Tuesday, February 19, 2008.

Docket Numbers: ER08-483-000.

Applicants: Kentucky Utilities Company.

Description: Kentucky Utilities Co submits an amendment to a contract with the City of Nicholasville, Kentucky re First Revised Rate Schedule 303.

Filed Date: 01/28/2008.

Accession Number: 20080130-0090.

Comment Date: 5 p.m. Eastern Time on Tuesday, February 19, 2008.

Docket Numbers: ER08-484-000.

Applicants: Kentucky Utilities Company.

Description: Kentucky Utilities Co submits an amendment to a contract with the City of Barbourville, Kentucky re First Revised Rate Schedule 304.

Filed Date: 01/28/2008.

Accession Number: 20080130-0091.

Comment Date: 5 p.m. Eastern Time on Tuesday, February 19, 2008.

Docket Numbers: ER08-485-000.

Applicants: Kentucky Utilities Company.

Description: Kentucky Utilities Co submits an amendment to a contract with the City of Providence, Kentucky re First Revised Rate Schedule 305.

Filed Date: 01/28/2008.

Accession Number: 20080130-0092.

Comment Date: 5 p.m. Eastern Time on Tuesday, February 19, 2008.

Docket Numbers: ER08-486-000.

Applicants: Kentucky Utilities Company.

Description: Kentucky Utilities Co submits an amendment to a contract with the City of Madisonville, Kentucky re First Revised Rate Schedule 306.

Filed Date: 01/28/2008.

Accession Number: 20080130-0093.

Comment Date: 5 p.m. Eastern Time on Tuesday, February 19, 2008.

Docket Numbers: ER08-487-000.

Applicants: Kentucky Utilities Company.

Description: Kentucky Utilities Co submits an amendment to a contract with the City of Bardwell, Kentucky re First Revised Rate Schedule 307.

Filed Date: 01/28/2008.

Accession Number: 20080130-0094.

Comment Date: 5 p.m. Eastern Time on Tuesday, February 19, 2008.

Docket Numbers: ER08-488-000.

Applicants: Kentucky Utilities Company.

Description: Kentucky Utilities Co submits an amendment to a contract with the City of Benham, Kentucky re First Revised Rate Schedule 308.

Filed Date: 01/28/2008.

Accession Number: 20080130-0095.

Comment Date: 5 p.m. Eastern Time on Tuesday, February 19, 2008.

Docket Numbers: ER08-489-000.

Applicants: Kentucky Utilities Company.

Description: Kentucky Utilities Co submits an amendment to a contract with the Frankfort Electric and Water Plant Board of the City of Frankfort, Kentucky re First Revised Rate Schedule 311.

Filed Date: 01/28/2008.

Accession Number: 20080130-0096.

Comment Date: 5 p.m. Eastern Time on Tuesday, February 19, 2008.

Take notice that the Commission received the following electric securities filings:

Docket Numbers: ES08-17-000.

Applicants: South Carolina Electric & Gas Company, South Carolina Generating Company, Inc.

Description: South Carolina Electric & Gas Company and South Carolina Generating Company, Inc. clarify and supplement their application.

Filed Date: 01/28/2008.

Accession Number: 20080128-5012.

Comment Date: 5 p.m. Eastern Time on Tuesday, February 5, 2008.

Docket Numbers: ES08-26-000.

Applicants: PJM Interconnection, LLC.

Description: Request for authorization and approval to issue securities to finance PJM Interconnection LLC's capital requirements for the years 2008 to 2010.

Filed Date: 01/28/2008.

Accession Number: 20080128-5111.

Comment Date: 5 p.m. Eastern Time on Tuesday, February 19, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protest.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-2249 Filed 2-6-08; 8:45 am]

BILLING CODE 6717-01-P